DEPARTMENT OF JUSTICE

Office of Justice Programs

[OJP—Docket No. 1405]

Meeting of the Public Safety Officer Medal of Valor Review Board

AGENCY: Office of Justice Programs, Justice.

ACTION: Notice of meeting.

SUMMARY: This is an announcement of a meeting of the Public Safety Officer Medal of Valor Review Board to review 2002-2003 activities and discuss the 2003-2004 Public Safety Officer Medal of Valor application process.

DATES: The meeting will take place on Monday, June 7, 2004, from 9 a.m. to 5 p.m. e.s.t.

ADDRESSES: The meeting will take place at the Ridgeland Police Department, 115 W. School Street, Ridgeland, Mississippi.

FOR FURTHER INFORMATION CONTACT: Omar A. Vargas, Advisor to the Assistant Attorney General, Office of Justice Programs, 810 7th Street, NW., Sixth Floor, Washington, DC 20531; Telephone: 202-307-5933 (note: this is not a toll-free number).

SUPPLEMENTARY INFORMATION: This meeting will be open to the public and registrations will be accepted on a space available basis. Members of the public who wish to attend the meeting must register at least five (5) days in advance of the meeting by contacting Mr. Vargas at the above address. Access to the meeting will not be allowed without prior registration. All attendees will be required to sign in at the meeting registration desk. Please bring photo identification and allow extra time prior to the meeting.

Anyone requiring special accommodations should contact Mr. Vargas at least five (5) days in advance of the meeting.

Authority: The Public Safety Officer Medal of Valor Review Board is authorized to carry out its advisory function under 42 U.S.C. 15202. (42 U.S.C. 15201 authorizes the President to award the Public Safety Officer Medal of Valor, the highest national award for valor by a public safety officer.)

Dated: May 19, 2004.
Omar A. Vargas,
Advisory to the Assistant Attorney General, Office of Justice Programs.

[FR Doc. 04-11617 Filed 5-21-04; 8:45 am]

BILLING CODE 4410-18-P